DEPARTMENT OF THE INTERIOR

[NPS-WASO-NAGPRA-NPS0035672; PPWOCRADN0-PCU00RP14.R50000]

Notice of Inventory Completion: United States Space Force, Cape Canaveral Space Force Station, Space Launch Delta 45, Brevard County, FL

AGENCY: National Park Service, Interior.

ACTION: Notice.

SUMMARY: In accordance with the Native American Graves Protection and Repatriation Act (NAGPRA), the United States Space Force, Cape Canaveral Space Force Station, Space Launch Delta 45 (SLD 45 USSF) has completed an inventory of human remains and associated funerary objects and has determined that there is a cultural affiliation between the human remains and associated funerary objects and Indian Tribes or Native Hawaiian organizations in this notice. The human remains and associated funerary objects were removed from Brevard County, FL.

DATES: Repatriation of the human remains and associated funerary objects in this notice may occur on or after May 22, 2023.

ADDRESSES: Mr. Thomas E. Penders MS, RPA, Cultural Resources Manager, Space Launch Delta 45, U.S. Space Force, 1225 Jupiter Street, Patrick Space Force Base, FL 32925, telephone (321) 307-0075, email thomas.penders@spaceforce.mil.

SUPPLEMENTARY INFORMATION: This notice is published as part of the National Park Service's administrative responsibilities under NAGPRA. The determinations in this notice are the sole responsibility of SLD 45 USSF. The National Park Service is not responsible for the determinations in this notice. Additional information on the determinations in this notice, including the results of consultation, can be found in the inventory or related records held by SLD 45 USSF.

Description

Burns Mound Site (8BR85)

In 1967, 362 associated funerary objects were removed from the Burns Site (8BR85) (also known as Burns Mound, Burns Place, Burnham's Place, and Burnham's Mound) in Brevard County, FL. These objects were removed from the surface of the burial mound and the immediate ground surface. No human remains were removed from this site. The objects were curated at the Florida Museum of Natural History (FLMNH) in Gainesville, Florida. The 362 associated funerary objects are one St. Johns Incised Body potsherd; four St. Johns Bold Stamped body potsherds; one St. Johns Exterior Check Stamp/Interior scored potsherd; four St. Johns Scored potsherds; 49 St. Johns Check Stamp potsherds; 52 St. Johns Plain potsherds; 66 Sandy St. Johns Plain potsherds; 184 Sand-Tempered Plain potsherds; and one Busycon sp. (shell) columella tool.

At an unknown date, one associated funerary object was removed from the Burns Site (8BR85) in Brevard County, FL. In 1950, the associated funerary object was donated to the FLMNH by the property owner, and in August of 2022, FLMNH transferred control of the object to SLD 45 USSF. The one associated funerary object is a potsherd (FLMNH Accession Number 2538).

Holmes Mound Site (8BR86)

In 1967, human remains representing, at minimum, three individuals were removed from the Holmes Mound Site (8BR86) in Brevard County, FL, by a University of Florida graduate student. These human remains were collected from the ground surface. Both the human skeletal remains and associated funerary objects were curated at FLMNH (FLMNH Accession Number 4595, Catalog Number 103726HR) before being transferred to SLD 45 USSF. The individual who collected the human remains and funerary objects stated that the site had been significantly disturbed by construction and that the items had been scattered over a large area of the site. The human remains—seven cranial fragments, four pelvic fragments, three femoral head fragments, one calcaneus, one clavicle, 17 long bone shaft fragments, and one bag of unidentifiable bone fragments—belong to two adults and one subadult. No known individuals were identified. The six associated funerary objects are two St. Johns Plain potsherds, two Sand-Tempered Plain potsherds, one Sandy St. Johns potsherd, and one Busycon sp. (shell) hammer/tool.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, anthropological, and historical.

Determinations

Pursuant to NAGPRA and its implementing regulations, and after consultation with the appropriate Indian Tribes and Native Hawaiian organizations, SLD 45 USSF, has determined that:

• The human remains described in this notice represent the physical remains of three individuals of Native American ancestry.

• The 369 objects described in this notice are reasonably believed to have been placed with or near individual human remains at the time of death or later as part of the death rite or ceremony.

• There is a relationship of shared group identity that can be reasonably traced between the human remains and associated funerary objects described in this notice and the Miccosukee Tribe of Indians; Seminole Tribe of Florida; and The Seminole Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 22, 2023. If competing requests for repatriation are received SLD 45 USSF must determine the most appropriate requestor prior to repatriation. Requests for joint repatriation of the human remains and associated funerary objects are considered a single request and not competing requests. SLD 45 USSF is responsible for sending a copy of this notice to the Indian Tribes identified in this notice.

Authority: Native American Graves Protection and Repatriation Act, 25 U.S.C. 3003, and the implementing regulations, 43 CFR 10.9, 10.10, and 10.14.

Dated: April 10, 2023.
Melanie O'Brien,
Manager, National NAGPRA Program.

[FR Doc. 2023-08332 Filed 4-19-23; 8:45 am]

BILLING CODE 4312-52-P